ENVIRONMENTAL PROTECTION AGENCY

40 CFR Part 61

[FRL-7448-6]

RIN 2060-AJ87

National Emission Standards for Benzene Waste Operations

AGENCY: Environmental Protection Agency (EPA).

ACTION: Partial withdrawal of direct final rule.

SUMMARY: On November 12, 2002, the EPA promulgated amendments to the national emission standards for benzene waste operations as a direct final rule, along with a parallel proposal to be used as a basis for final action in the event that we received any adverse comments on the direct final amendments. Because an adverse comment was received on one provision, we are withdrawing the corresponding parts of the direct final rule. We will address the adverse comments in a subsequent final rule based on the parallel proposal published on November 12, 2002.

DATES: As of February 6, 2003, the EPA withdraws 40 CFR 61.343(e), introductory text, and withdraws and reserves paragraph (e)(2) published on November 12, 2002 at 67 FR 68526. The remaining provisions published on November 12, 2002, will be effective on February 10, 2003.

ADDRESSES: Docket number A-2001-23, containing supporting information used in the development of this notice, is available for public inspection and copying between 8 a.m. and 5:30 p.m., Monday through Friday (except for Federal holidays) at the following address: U.S. Environmental Protection Agency, Air and Radiation Docket and Information Center (6102T), 1301 Constitution Avenue, NW., Room B108, Washington, DC 20460.

FOR FURTHER INFORMATION CONTACT: Mr. Robert B. Lucas, Waste and Chemical Process Group (C439-03), Emission Standards Division, Office of Air Quality Planning and Standards, U.S. EPA, Research Triangle Park, NC 27711, telephone number (919) 541-0884, facsimile number (919) 541-0426, electronic mail address, lucas.bob@epa.gov.

SUPPLEMENTARY INFORMATION: On November 12, 2002, we published a direct final rule (67 FR 68526) and a parallel proposed rule (67 FR 68546) amending the national emission standards for benzene waste operations (40 CFR part 61, subpart FF). The amendments clarified the applicability of the standards with respect to fuel gas recovery systems and added new compliance options for tanks and containers based on the requirements in other similar EPA rules for hazardous waste treatment, storage, and disposal facilities (40 CFR parts 264 and 265, subparts CC).

We stated in the preamble to the direct final rule and parallel proposal that if we received significant adverse comment by December 12, 2002 (or by February 18, 2003, if a public hearing was requested), we would publish a timely notice in the Federal Register specifying which provisions will become effective and which provisions will be withdrawn due to adverse comment. We subsequently received an adverse comment from one commenter on the provisions related to control devices in the new compliance option for tanks equipped with an enclosure in 40 CFR 61.343(e).

Accordingly, we are withdrawing 40 CFR 61.343(e), introductory text, and withdrawing and reserving paragraph(e)(2). These amendments are withdrawn as of February 6, 2003. We will take final action on the proposed rule after considering the comments received. We will not institute a second comment period on this action. The provisions for which we did not receive adverse comment will become effective on February 10, 2003, as provided in the preamble to the direct final rule.

List of Subjects in 40 CFR Part 61

Environmental protection, Air pollution control, Reporting and recordkeeping requirements.

Dated: January 30, 2003.
Robert Brenner,
Acting Assistant Administrator for Air and Radiation.

[FR Doc. 03-2936 Filed 2-5-03; 8:45 am]

BILLING CODE 6560-50-P